DEPARTMENT OF HEALTH AND HUMAN SERVICES

Office of the Secretary

[Document Identifier: OS-4040-0001 60D]

Agency Information Collection Activities; Submission to OMB for Review and Approval; Public Comment Request

AGENCY: Electronic Government Office, HHS.

ACTION: Notice.

SUMMARY: In compliance with section 3507(a)(1)(D) of the Paperwork Reduction Act of 1995, the Electronic Government Office (EGOV), Department of Health and Human Services, has submitted an Information Collection Request (ICR), described below, to the Office of Management and Budget (OMB) for review and approval. The ICR is for a 3-year extension for OMB Control Number 4040-0001. The ICR will expire on June 30, 2016. The ICR also requests categorizing 4040-0001 as a common form, meaning HHS will only request approval for its own use of the form rather than aggregating the burden estimate across all Federal Agencies as was done for previous actions on this OMB control number. Comments submitted during the first public review of this ICR will be provided to OMB. OMB will accept further comments from the public on this ICR during the review and approval period.

DATES: Comments on the ICR must be received on or before April 25, 2016.

ADDRESSES: Submit your comments to ed.calimag@hhs.gov or (202) 690-7569.

FOR FURTHER INFORMATION CONTACT: Information Collection Clearance staff, Information.CollectionClearance@hhs.gov or (202) 690-6162.

SUPPLEMENTARY INFORMATION: When submitting comments or requesting information, please include the OMB control number 4040-0001. Form is available http://www.grants.gov or upon request.

Information Collection Request Title: SF-424 Application for Federal Assistance—Research and Related.

OMB No.: 4040-0001.

Abstract: The SF-424 Application for Federal Assistance—Research and Related is a set of common forms used by Federal research grant-making agencies for organizations to apply for Federal financial assistance.

Need and Proposed Use of the Information: The SF-424 Application for Federal Assistance—Research and Related forms are used by organizations to apply for Federal financial assistance in the form of research-based grants. These forms are submitted to the Federal grant-making agencies for evaluation and review.

Likely Respondents: Organizations and institutions seeking research-based grants. Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this ICR are summarized in the table below.

HHS estimates that the SF-424 Application for Federal Assistance forms will take 1 hour to complete.

Once OMB approves the use of this common form, federal agencies may request OMB approval to use this common form without having to publish notices and request public comments for 60 and 30 days. Each agency must account for the burden associated with their use of the common form.

EGOV specifically requests comments on (1) the necessity and utility of the proposed information collection for the proper performance of the agency's functions, (2) the accuracy of the estimated burden, (3) ways to enhance the quality, utility, and clarity of the information to be collected, and (4) the use of automated collection techniques or other forms of information technology to minimize the information collection burden.

Total Estimated Annualized Burden Hours
Form name | Number of respondents | Number of responses per respondent | Average burden per response (in hours) | Total burden hours
SF-424 Application for Federal Assistance—Research and Related | 137,407 | 1 | 1 | 137,407
Research and Related Budget 5 Year | 121,416 | 1 | 1 | 121,416
Research and Related Budget 10 Year | 1,118 | 1 | 1 | 1,118
SF-424 Research and Related Multi-Project Cover | 1,570 | 1 | 1 | 1,570
Research & Related Multi-Project 10 Year Budget | 1,570 | 1 | 1 | 1,570
R & R Multi-Project Subaward Budget Attachment(s) Form 10YR 30ATT | 1,570 |  |  | 1,570
R & R Subaward Budget Attachment(s) Form | 217 |  |  | 217
R & R Subaward Budget Attachment(s) Form 5 YR 30 ATT | 121,088 | 1 | 1 | 121,088
R & R Subaward Budget Attachment(s) Form 10 YR 30 ATT | 1,118 | 1 | 1 | 1,118
Research & Related Senior/Key Person Profile | 218 | 1 | 1 | 218
Research and Related Senior/Key Person Profile (Expanded) | 136,940 | 1 | 1 | 136,940
Research And Related Other Project Information | 137,699 | 1 | 1 | 137,699
SBIR/STTR Information | 21,289 | 1 | 1 | 21,289
Total | 683,220 |  |  | 683,220

Darius Taylor,
Information Collection Clearance Officer.

[FR Doc. 2016-04054 Filed 2-24-16; 8:45 am]

BILLING CODE 4150-57-P